DEPARTMENT OF THE INTERIOR

Fish and Wildlife Service

Application for an Incidental Take Permit for the Lockheed Martin Corporation Project, Riverside County, CA

AGENCY: Fish and Wildlife Service, Interior.

ACTION: Notice of receipt of application; notice of availability.

SUMMARY: In response to an application from the Lockheed Martin Corporation (applicant), the U.S. Fish and Wildlife Service (we, Service) is considering issuance of a 5-year incidental take permit for 1 covered species pursuant to section 10(a)(1)(B) of the Endangered Species Act of 1973, as amended (ESA). In response to this application, we are making it available for public review and comment. If approved, the permit would authorize take of species listed under the ESA incidental to otherwise lawful activities associated with proposed groundwater and soil contamination investigations on the 9,117-acre Potrero Creek and 2,500-acre Laborde Canyon sites, located in Beaumont, Riverside County, California.

DATES: Written comments should be received on or before August 22, 2005.

ADDRESSES: Please address written comments to Mr. Jim Bartel, Field Supervisor, Fish and Wildlife Service, Carlsbad Fish and Wildlife Office, 6010 Hidden Valley Rd., Carlsbad, California 92009. You may also send comments by facsimile to (760) 918-0638.

FOR FURTHER INFORMATION CONTACT: Ms. Karen Goebel, Assistant Field Supervisor, Carlsbad Fish and Wildlife Office (see ADDRESSES); telephone: (760) 431-9440.

SUPPLEMENTARY INFORMATION: The permit application and Environmental Action Statement (EAS) are available for public review and comment. The application includes a proposed habitat conservation plan (HCP).

Documents are posted on the Intranet at http://carlsbad.fws.gov. Alternatively, you may obtain copies of these documents by calling the person named in the section of this notice titled FOR FURTHER INFORMATION CONTACT, or by writing to the person named in the section titled ADDRESSES. Copies of these documents also are available for public inspection and review during normal business hours at the office listed under ADDRESSES.

We specifically request information, views, and opinions from the public on the proposed Federal action of issuing a permit, including the identification of any aspects of the human environment not already analyzed in our EAS. Further, we specifically solicit information regarding the adequacy of the proposed HCP as measured against our permit issuance criteria found in 50 CRF 13.21, 17.22, and 17.32.

Our practice is to make comments, including names and home addresses of respondents, available for public review during regular business hours. Individual respondents may request that we withhold their identity from the administrative record. We will honor such requests to the extent allowed by law. If you wish to withhold your identity (e.g., individual name, home address and home phone number), you must state this prominently at the beginning of your comments. We will make all submissions from organizations, agencies or businesses, and from individuals identifying themselves as representatives of officials of such entities, available for public inspection in their entirety.

Background

Section 9 of the ESA and its implementing Federal regulations prohibit the “take” of fish and wildlife species listed as endangered or threatened (16 U.S.C. 1538). The term “take” means to harass harm, pursue, hunt, shoot, wound, kill, trap, capture or collect listed animal species, or attempt to engage in such conduct (16 U.S.C. 1532). However, under section 10(a) of the ESA, we may issue permits to authorize “incidental take” of listed fish and wildlife species. “Incidental take” is defined by the ESA as take that is incidental to, and not the purpose of, carrying out an otherwise lawful activity. Regulations governing incidental take permits for threatened and endangered species are found in the Code of Federal Regulations at 50 CFR 17.22 and 50 CFR 17.32, respectively.

The applicant has applied to the Service for a 5-year incidental take permit for the endangered Stephen's kangaroo rat (Dipodomys stephensi) (covered species, “SKR”), pursuant to section 10(a)(1)(B) of the ESA. The activities proposed to be covered by the permit include groundwater and soil contaminants investigation activities at the Potrero Creek and Laborde Canyon sites. Investigation activities include: (1) Conducting groundwater level measurements and sampling at existing and future wells; (2) installing up to 50 additional 4-inch diameter groundwater wells for sampling and monitoring; (3) abandoning approximately 20 groundwater production and monitoring wells; (4) maintaining existing structures and groundwater pump and treat system on a daily basis; (5) drilling approximately 400 soil assessment bore holes (8-inch diameter) to sample soil contaminants; (6) installing and sampling up to 200 temporary soil gas probes; (7) conducting unexploded ordnance surveys; (8) conducting seismic reflection and/or refraction surveys; (9) maintaining roads (e.g., repair, limited grading, widening and create new routes if necessary); and (10) removing an old CatOx unit. In addition, measures to minimize and mitigate effects of the above activities to the covered species, are proposed to be covered by the permit.

Incidental take of covered species may occur as a result of these proposed covered activities. The applicant proposes to avoid, minimize, and mitigate the impacts of the taking of this species by implementing the following measures: (1) Completing activities during daylight hours; (2) monitoring all activities by a permitted SKR biologist; (3) flagging burrows and guiding equipment by a biologist to avoid burrows as much as possible; (4) placing load-spreading measures over burrows that can not be avoided; (5) restricting parking of vehicles overnight to existing roads; (6) restricting drilling to the maximum extent possible, to 15 feet or more from burrows; and, if needed, (7) excluding SKR from, or trapping and moving SKR out of, densely occupied areas. Proposed mitigation would consist of refilling bore holes and smoothing of soils disturbed during investigation activities.

Our EAS considers the direct, indirect, and cumulative effects of the proposed action of permit issuance, including the measures that would be implemented to minimize and mitigate such impacts. The EAS contains an analysis of three alternatives: (1) The No Action Alternative (no permit issuance and no investigation activities); (2) the Proposed Action Alternative (groundwater and soil contaminants investigation activities at the Potrero Creek and Laborde Canyon sites with issuance of the permit and implementation of the HCP); and (3) the Soil Assessment by Trenching Alternative (collection of soil samples by trenching instead of drilling for the soil assessment portion of the project). Under the No Action Alternative, no permit would be issued and no investigative activities would occur. Under the Proposed Action Alternative, drilling of bore holes would be utilized to collect soil samples for assessment. Under the Trenching Alternative, trenching would be utilized, instead of drilling, to collect soil samples for assessment. It was determined that trenching would result in greater impacts to biological resources at the sites than drilling.

The Service has made a preliminary determination that approval of the proposed HCP qualifies for a categorical exclusion under NEPA, as provided by the Department of the Interior Manual (516 DM 2, Appendix 1 and 516 DM 6, Appendix 1) and that the proposed HCP qualifies as a “low-effect” plan as defined by the Habitat Conservation Planning Handbook (November 1996). Determination of whether an HCP is low-effect is are based on the following three criteria: (1) Implementation of the proposed HCP would result in minor or negligible effects on federally listed, proposed, and candidate species and their habitats; (2) implementation of the proposed HCP would result in minor or negligible effects on other environmental values or resources; and (3) impacts (positive or negative) of the proposed HCP, considered together with the impacts of other past, present and reasonably foreseeable similarly situated projects, would not result in cumulative effects to environmental values or resources that would be considered significant over time.

Based on this preliminary determination, we do not intend to prepare further NEPA documentation. We will consider public comments in making the final determination on whether to prepare such additional documentation.

This notice is provided pursuant to section 10(c) of the ESA and the regulations of NEPA (40 CFR 1505.6). We will evaluate the permit application, the proposed HCP, and comments submitted thereon to determine whether the application meets the requirements of section 10(a) of the ESA. If the requirements are met, we will issue a permit to the applicant.

Dated: July 15, 2005.
Kenneth McDermond,
Deputy Manager, California/Nevada Operations Office, Sacramento, California.

[FR Doc. 05-14374 Filed 7-20-05; 8:45 am]

BILLING CODE 4310-55-P